DEPARTMENT OF TRANSPORTATION

Surface Transportation Board

[Docket No. FD 35947]

Cicero Central Railroad, L.L.C.—Lease Exemption—Illinois Central Railroad Company

Cicero Central Railroad, L.L.C. (CCR),¹ a noncarrier, has filed a verified notice of exemption under 49 CFR 1150.31 to lease from Illinois Central Railroad Company (IC), and to operate, approximately 5,675 feet of rail line between the western edge of Cicero Avenue and the eastern edge of the Central Avenue overpass at or near Stickney, Ill.

¹ CCR is a wholly owned subsidiary of Watco Holdings, Inc.

This transaction is related to a concurrently filed verified notice of exemption in Watco Holdings, Inc.—Continuance in Control Exemption—Cicero Central Railroad, Docket No. FD 35948, wherein Watco Holdings, Inc. seeks Board approval under 49 CFR 1180.2(d)(2) to continue in control of CCR, upon CCR's becoming a Class III rail carrier.

CCR states that the agreement between CCR and IC does not contain any provision that prohibits CCR from interchanging traffic with a third party or limits CCR's ability to interchange with a third party.

CCR has certified that its projected annual revenues as a result of this transaction will not result in CCR's becoming a Class II or Class I rail carrier, and that its projected annual revenues as a result of this transaction will not exceed $5 million.

This transaction may be consummated on or after November 18, 2015, the effective date of the exemption (30 days after the exemption was filed).

If the notice contains false or misleading information, the exemption is void ab initio. Petitions to revoke the exemption under 49 U.S.C. 10502(d) may be filed at any time. The filing of a petition to revoke will not automatically stay the effectiveness of the exemption. Petitions for stay must be filed no later than November 10, 2015 (at least seven days before the exemption becomes effective).

An original and 10 copies of all pleadings, referring to Docket No. FD 35947 must be filed with the Surface Transportation Board, 395 E Street SW., Washington, DC 20423-0001. In addition, one copy of each pleading must be served on Karl Morell, Karl Morell & Associates, 655 Fifteenth Street NW., Suite 225, Washington, DC 20005.

Board decisions and notices are available on our Web site at www.stb.dot.gov.

Decided: October 30, 2015.
By the Board, Rachel D. Campbell, Director, Office of Proceedings.
Tia Delano,
Clearance Clerk.

[FR Doc. 2015-28044 Filed 11-3-15; 8:45 am]

BILLING CODE 4915-01-P